DEPARTMENT OF DEFENSE

Department of the Army

Notice of Availability for Exclusive, Non-Exclusive, or Partially-Exclusive Licensing of an Invention Concerning Methods of Treating Amniotic Membranes and Compositions and Apparatuses Prepared Therein

AGENCY: Department of the Army, DoD.

ACTION: Notice.

SUMMARY: Announcement is made of the availability for licensing of the invention set forth in U.S. Patent Application Serial No. 13/815,827, entitled “Methods of Treating Amniotic Membranes and Compositions and Apparatuses Prepared Therein,” filed on March 15, 2013. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to a method of sterilizing compositions prepared from amniotic membrane tissues.

Brenda S. Bowen,
Army Federal Register Liaison Officer.

[FR Doc. 2014-01837 Filed 1-29-14; 8:45 am]

BILLING CODE 3710-08-P